DEPARTMENT OF COMMERCE

International Trade Administration

[A-549-502]

Certain Welded Carbon Steel Pipes and Tubes From Thailand: Extension of Time Limit for Preliminary Results of Antidumping Administrative Review

AGENCY: Import Administration, International Trade Administration, Department of Commerce.

SUMMARY: The Department of Commerce is extending the time limit for the preliminary results of the administrative review of certain welded carbon steel pipes and tubes from Thailand until no later than March 30, 2004. The period of review is March 1, 2002, through February 28, 2003. This extension is made pursuant to section 751(a)(3)(A) of the Tariff Act of 1930, as amended (the Act).

EFFECTIVE DATE: January 28, 2004.

FOR FURTHER INFORMATION CONTACT: Javier Barrientos, Office of AD/CVD Enforcement VII, Import Administration, International Trade Administration, U.S. Department of Commerce, 14th Street and Constitution Avenue, NW., Washington, DC 20230; telephone: (202) 482-2243.

Background

On March 11, 1986, the Department issued an antidumping duty order on certain welded carbon steel pipes and tubes from Thailand. See Antidumping Duty Order: Circular Welded Carbon Steel Pipes and Tubes from Thailand, 51 FR 8341 (March 11, 1986). On March 31, 2003, the Department of Commerce (the Department) received a timely request for administrative review of the antidumping duty order on certain welded carbon steel pipes and tubes from Thailand from Allied Tube and Conduit Corporation and Wheatland Tube Company (collectively, the petitioners). On April 21, 2003, the Department published a notice of initiation of this administrative review, covering the period of March 1, 2002, through February 28, 2003 (68 FR 19498), for Saha Thai Steel Pipe Co., Ltd. (Saha Thai). On July 29, 2003, petitioners submitted a timely request for verification of Saha Thai. The preliminary results for Saha Thai are currently due no later than December 1, 2003.

Extension of Time Limits for Preliminary Results

The Department has determined that it is not practicable to complete this review within the statutory time limits because this review involves complex issues with respect to normal value and U.S. price, including duty drawback, duty absorption, major input costs, and other issues which require the Department to analyze a significant amount of information. Given these facts, it is not practicable to complete this review within the time limits mandated by section 751(a)(3)(A) of the Act. The Department is therefore extending the time period for issuing the preliminary results of this review by 120 days, from December 1, 2003, until no later than March 30, 2004, in accordance with section 751(a)(3)(A) of the Act. The final results continue to be due 120 days after the publication of the preliminary results.

This notice is published pursuant to sections 751(a)(3)(A) of the Act.

Dated: November 7, 2003.
Joseph A. Spetrini,
Deputy Assistant Secretary for Import Administration, Group III.

[FR Doc. 04-1831 Filed 1-27-04; 8:45 am]

BILLING CODE 3510-DS-P